DEPARTMENT OF AGRICULTURE

Agricultural Marketing Service

7 CFR Part 205

[Document Number AMS-NOP-17-0031; NOP-15-06A]

RIN 0581-AD74

National Organic Program (NOP); Organic Livestock and Poultry Practices Second Proposed Rule

AGENCY: Agricultural Marketing Service, USDA.

ACTION: Proposed rule.

SUMMARY: This proposed rule sets forth the U.S. Department of Agriculture's (USDA) intention to pursue one of several actions on the Organic Livestock and Poultry Practices Final Rule (FR) published in the Federal Register on January 19, 2017, by USDA's Agricultural Marketing Service (AMS). USDA is asking the public to comment on the possible actions USDA should take in regards to the disposition of the FR. The FR amends the organic livestock and poultry production requirements in the USDA organic regulations by adding new provisions for livestock handling and transport for slaughter and avian living conditions; and expands and clarifies existing requirements covering livestock care and production practices and mammalian living conditions. The FR was originally set to take effect on March 20, 2017, and is now being extended to November 14, 2017.

DATES: Interested persons are invited to submit written comments on this proposed rule on or before June 9, 2017.

ADDRESSES: We invite you to submit comments on the proposed rule by any of the following methods:

• Federal eRulemaking Portal: http://www.regulations.gov. Follow the instructions for submitting comments.

• Mail: Paul Lewis Ph.D., Director, Standards Division, National Organic Program, USDA-AMS-NOP, 1400 Independence Ave. SW., Room 2642-So., Ag Stop 0268, Washington, DC 20250-0268.

Instructions: All submissions received must include the docket number AMS-NOP-17-0031; NOP-15-06A, and/or Regulatory Information Number (RIN) 0581-AD74 for this rulemaking. Your comments should clearly indicate whether or not you support an option presented in this proposed rule. You should clearly indicate the reason(s) for the stated position. All comments received and any relevant background documents will be posted without change to http://www.regulations.gov.

Document: For access to the document and to read background documents or comments received, go to http://www.regulations.gov. Comments submitted in response to this proposed rule will also be available for viewing in person at USDA-AMS, National Organic Program, Room 2642-South Building, 1400 Independence Ave. SW., Washington, DC, from 9 a.m. to 12 noon and from 1 p.m. to 4 p.m., Monday through Friday (except official Federal holidays). Persons wanting to visit the USDA South Building to view comments received in response to this proposed rule are requested to make an appointment in advance by calling (202) 720-3252.

FOR FURTHER INFORMATION CONTACT: Paul Lewis, Ph.D., Director, Standards Division, Telephone: (202) 702-3252; Fax: (202) 720-7808.

SUPPLEMENTARY INFORMATION:

Background

Consistent with the memorandum of January 20, 2017, to the heads of executive departments and agencies from the Assistant to the President and Chief of Staff entitled “Regulatory Freeze Pending Review,” AMS published in the Federal Register [82 FR 9967] a notice that delayed the effective date of the FR until May 19, 2017. Along with this proposed rule, AMS is also publishing a Notice in the Federal Register that further delays the effective date of the FR until November 14, 2017.

The FR amends the organic livestock and poultry production requirements of the USDA organic regulations by adding new provisions for livestock handling and transport for slaughter and avian living conditions; and expands and clarifies existing requirements covering livestock care and production practices and mammalian living conditions. The FR finalizes a proposed rule that AMS published in the Federal Register on April 13, 2016, 81 FR 21955.

Actions Being Considered

Because there are significant policy and legal issues addressed within the FR that warrant further review by USDA, the public is being asked to comment on which of the following four actions they believe would be best for USDA to take with regard to the disposition of the FR. Specifically, the public should submit their comments on the following options:

(1) Let the rule become effective. This means that the rule would become effective on November 14, 2017.

(2) Suspend the rule indefinitely. During the suspension, USDA could consider whether to implement, modify or withdraw the final rule.

(3) Delay the effective date of the rule further, beyond the effective date of November 14, 2017.

(4) Withdraw the rule so that USDA would not pursue implementation of the rule.

Notice Delaying IFR Effective Date

Concurrent with this proposed rule, AMS is publishing in the Federal Register a notice extending the effective date of the FR by 180 days until November 14, 2017.

Dated: May 4, 2017.
Bruce Summers,
Acting Administrator, Agricultural Marketing Service.

[FR Doc. 2017-09410 Filed 5-9-17; 8:45 a.m.]

BILLING CODE 3410-02-P